DEPARTMENT OF HOMELAND SECURITY

Federal Emergency Management Agency

[Docket ID FEMA-2019-0008]

Assistance to Firefighters Grant Program; Fire Prevention and Safety Grants

AGENCY: Federal Emergency Management Agency, DHS.

ACTION: Notice of guidance.

SUMMARY: This Notice provides guidelines that describe the application process for grants and the criteria the Federal Emergency Management Agency (FEMA) will use for awarding Fire Prevention and Safety (FP&S) grants in the Fiscal Year (FY) 2018 Assistance to Firefighters Grant (AFG) Program. It explains the differences, if any, between these guidelines and those recommended by representatives of the Nation's fire service leadership during the annual Criteria Development meeting, which was held January 16-18, 2018. The application period for the FY 2018 FP&S Grant Program was open from November 12, 2018 to December 21, 2018, and was announced on the AFG website (www.fema.gov/firegrants), www.grants.gov, and the U.S. Fire Administration website (www.usfa.fema.gov).

DATES: Grant applications for the FP&S Grant Program were accepted electronically at https://portal.fema.gov, from November 12, 2018 at 8:00 a.m. ET to December 21, 2018 at 5:00 p.m. ET.

ADDRESSES: Assistance to Firefighters Grants Branch, DHS/FEMA, 400 C Street SW, 3N, Washington, DC 20472-3635.

FOR FURTHER INFORMATION CONTACT: Catherine Patterson, Chief, Assistance to Firefighters Grants Branch, 1-866-274-0960.

SUPPLEMENTARY INFORMATION: The purpose of the FP&S Program is to reduce fire and fire-related injuries and prevent deaths among the public and firefighters by assisting fire prevention programs and supporting firefighter health and safety research and development. The FEMA Grant Programs Directorate administers the FP&S Grant Program as part of the AFG Program.

FP&S Grants are offered to support projects in two activities:

1. Activities designed to reach high-risk target groups and mitigate the incidence of death, injuries, and property damage caused by fire and fire-related hazards (“FP&S Activity”).

2. Projects aimed at improving firefighter safety, health, or wellness through research and development that reduces firefighter fatalities and injuries (“R&D Activity”).

The grant program's authorizing statute requires that DHS publish in the Federal Register each year the guidelines that describe the application process and the criteria for grant awards. While the application period has closed, the FY 2018 Fire Prevention and Safety Program Notice of Funding Opportunity (NOFO) and application tools are posted online and available for download at www.fema.gov/firegrants and at www.regulations.gov under Docket ID: FEMA-2019-0008.

Appropriations

Congress appropriated $350,000,000 for AFG in FY 2018 pursuant to the Department of Homeland Security Appropriations Act, 2018, Public Law 115-141. From this amount, $35,000,000 will be made available for FP&S Grant awards, pursuant to 15 U.S.C. 2229(h)(5), which states that not less than 10 percent of available grant funds each year are awarded under the FP&S Grant Program. Funds appropriated for all FY 2018 AFG awards, pursuant to Public Law 115-141, will be available for obligation and award until September 30, 2019.

From the approximately 800 applications that requested assistance, FEMA anticipates that it will award approximately 150 FP&S Grants from available grant funding.

Background of the AFG Program

DHS awards grants on a competitive basis to applicants that best address the FP&S Grant Program's priorities and provide the most compelling justification. Applications that best address the Program's priorities will be reviewed by a panel composed of fire service personnel.

Award Criteria

All applications for grants were prepared and submitted through the AFG e-Grant application portal (https://portal.fema.gov).

The FP&S Grant Program panels will review the applications and score them using the following criteria areas:

• Financial Need

• Vulnerability Statement

• Implementation Plan

• Evaluation Plan

• Cost-Benefit

• Funding Priorities

The applications submitted under the R&D Activity will be reviewed first by a panel of fire service members to identify those applications most relevant to the fire service. The following evaluation criteria will be used for this review:

• Purpose

• Potential Impact

• Implementation by the Fire Service

• Partners

• Barriers

The applications that are determined most likely to enable improvement in firefighter safety, health, or wellness will be deemed to be in the “competitive range” and forwarded to the second level of application review, which is the scientific panel review process. This panel will be comprised of scientists and technology experts who have expertise pertaining to the subject matter of the proposal.

The Scientific Technical Evaluation Panel for the R&D Activity will review the application and evaluate it using the following criteria:

• Project goals, objectives, and specific aims

• Literature Review

• Project Methods

• Project Measurements

• Project Analysis

• Dissemination and Implementation

• Cost vs. Benefit (additional consideration)

• Financial Need (additional consideration)

• Mentoring (additional consideration for Early Career Investigator Projects only)

Eligible Applicants

Under the FY 2018 FP&S Grant Program, eligible applicants were limited to those entities described below within each activity:

1. Fire Prevention and Safety (FP&S) Activity: Eligible applicants for this activity included fire departments; and national, regional, State, local, federally recognized tribal, and nonprofit organizations that are recognized for their experience and expertise in fire prevention and safety programs and activities. Both private and public non-profit organizations were eligible to apply for funding in this activity. For-profit organizations, Federal agencies, and individuals were not eligible to receive a FP&S Grant Award under the FP&S Activity.

2. Firefighter Safety Research and Development (R&D) Activity: Eligible applicants for this activity included national, State, local, federally recognized tribal, and nonprofit organizations, such as academic (e.g., universities), public health, occupational health, and injury prevention institutions. Both private and public non-profit organizations were eligible to apply for funding in this activity.

The aforementioned entities were encouraged to apply, especially those that are recognized for their experience and expertise in firefighter safety, health, and wellness research and development activities. Fire departments were not eligible to apply for funding in the R&D activity. Additionally, for-profit organizations, Federal agencies, and individuals were not eligible to receive a grant award under the R&D Activity.

Funding Limitations

Awards are limited to a maximum federal share of $1.5 million dollars, regardless of applicant type, in accordance with 15 U.S.C. 2229(d)(2). FP&S Research and Development applicants that applied under the Early Career Investigator category are limited to a maximum federal share of $75,000 per project year.

Cost Sharing

Grant recipients must share in the costs of the projects funded under this grant program as required by 15 U.S.C. 2229(k)(1) and in accordance with 2 CFR 200.101(b)(1), but they were not required to have the cost-share at the time of application nor are they required to have it at the time of award. However, before a grant is awarded, FEMA may contact potential awardees to determine whether the grant recipient has the funding in hand or whether the grant recipient has a viable plan to obtain the funding necessary to fulfill the cost-sharing requirement.

In general, an eligible applicant seeking an FP&S grant to carry out an activity shall agree to make available non-Federal funds to carry out such activity in an amount equal to, and not less than, 5 percent of the grant awarded. Cash match and in-kind matches are both allowable in the FP&S Grant Program. Cash (hard) matches include non-Federal cash spent for project-related costs. In-kind (soft) matches include, but are not limited to, the valuation of in-kind services; complementary activities; and provision of staff, facilities, services, material, or equipment. In-kind is the value of something received or provided that does not have a cost associated with it. For example, where an in-kind match (other than cash payments) is permitted, then the value of donated services could be used to comply with the match requirement. Also, third party in-kind contributions may count toward satisfying match requirements provided the grant recipient receiving the contributions expends them as allowable costs in compliance with provisions listed above.

Grant recipients under this program must also agree to a maintenance of effort requirement per 15 U.S.C. 2229(k)(3) (referred to as a “maintenance of expenditure” requirement in that statute). Per this requirement, a grant recipient shall agree to maintain during the term of the grant, the grant recipient's aggregate expenditures relating to the activities allowable under the FP&S NOFO at not less than 80 percent of the average amount of such expenditures in the 2 fiscal years preceding the fiscal year in which the grant amounts are received.

In cases of demonstrated economic hardship and upon the request of the grant recipient, the FEMA Administrator may waive or reduce certain grant recipient's cost share or maintenance of expenditure requirements (15 U.S.C. 2229(k)(4)(A)). As required by 15 U.S.C. 2229(k)(4)(B), the Administrator established guidelines for determining what constitutes economic hardship and published these guidelines at FEMA's website www.fema.gov/grants. Per 15 U.S.C. 2229(k)(4)(C), FP&S nonprofit organization grant recipients that are not fire departments or emergency medical services organizations are not eligible to receive a waiver of their cost share or economic hardship requirements.

System for Award Management (SAM)

Per 2 CFR 25.200, all grant applicants and recipients were required to register in https://SAM.gov, which is available free of charge. They must maintain validated information in SAM that is consistent with the data provided in their AFG grant application and in the Dun & Bradstreet (DUNS) database. FEMA required active SAM registration at the time of application, and will not process any awards, consider any payment or amendment requests, or consider any amendment unless the applicant or grant recipient has complied with the requirements to provide a valid DUNS number and an active SAM registration with current information. The banking information, employer identification number (EIN), organization/entity name, address, and DUNS number provided in the application must match the information that is provided in SAM.

Application Process

Applicants were only permitted to submit one application, but were permitted to submit for up to three projects under each activity (FP&S and R&D). Any applicant that submitted more than one application may have all applications deemed ineligible.

Under the FP&S Activity, applicants could apply under the following categories:

• Community Risk Reduction

• Fire & Arson Investigation

• Code Enforcement/Awareness

• National/State/Regional Programs and Studies

Under the R&D Activity, applicants could apply under the following categories:

• Clinical Studies

• Technology and Product Development

• Database System Development

• Dissemination and Implementation Research

• Preliminary Studies

• Early Career Investigator

Prior to the start of the FY 2018 FP&S Grant Program application period, FEMA provided applicants with technical assistance tools (available at the AFG website: www.fema.gov/firegrants) and other online information to help them prepare quality grant applications. AFG staffed a Help Desk throughout the application period to assist applicants with navigation through the automated application as well as assistance with related questions. The AFG Help Desk can be reached year-round through a toll-free telephone number (1-866-274-0960) or email (firegrants@fema.dhs.gov).

Applicants were advised to access the application electronically at https://portal.fema.gov. The application was also accessible from the Grants.gov website (http://www.grants.gov). New applicants were required to register and establish a username and password for secure access to their application. Applicants that applied to any previous AFG or Staffing for Adequate Fire and Emergency Response (SAFER) funding opportunities were required to use their previously established usernames and passwords when applying for an FP&S grant.

In completing an application under this funding opportunity, applicants were asked to provide relevant information on their organization's characteristics and existing capabilities. Those applicants were asked to answer questions about their grant request that reflected the funding priorities, described below. In addition, applicants were required to complete narratives for each project or grant activity requested.

The following are the funding priorities for each category under the FP&S Activity:

• Community Risk Reduction—Under the Community Risk Reduction category there are three funding priorities:

○ Priority will be given to programs that target a specific high-risk population to conduct both door-to-door smoke alarm installations and provide home safety inspections, as part of a comprehensive home fire safety campaign.

○ Priority will be given to programs that include sprinkler awareness that affect the entire community, such as educating the public about residential sprinklers, promoting residential sprinklers, and demonstrating working models of residential sprinklers.

○ Priority will be given to programs to conduct community-appropriate comprehensive risk assessments and risk reduction planning.

• Code Enforcement/Awareness—These are projects that focus on first time or reinstatement of code adoption and code enforcement, including Wildland Urban Interface (WUI) codes for communities with a WUI-wildfire risk.

• Fire & Arson Investigation—These are projects that aim to aggressively investigate every fire.

• National/State/Regional Programs and Studies—These are projects that focus on residential fire issues and/or firefighter behavior and wellness.

Under the R&D Activity, in order to identify and address the most important elements of firefighter safety, FEMA looked to the fire service for its input and recommendations. In June 2005, the National Fallen Firefighters' Foundation (NFFF) hosted a working group to facilitate the development of an agenda for the Nation's fire service, and in particular for firefighter safety. In November 2015, the NFFF hosted its third working group to update the agenda with current priorities. A copy of the research agenda is available on the NFFF website at http://www.everyonegoeshome.com/resources/research-symposium-reports/.

All proposed projects, regardless of whether they have been identified by this working group, will be evaluated on their relevance to firefighter health and safety, and scientific rigor.

The electronic application process permitted the applicant to enter and save the application data. The system did not permit the submission of incomplete applications. Except for the narrative textboxes, the application contained a “point-and-click” selection process or required the entry of data (e.g., name and address). Applicants were encouraged to read the FP&S NOFO for more details.

Criteria Development Process

Each year, DHS convenes a panel of fire service professionals to develop the funding priorities and other implementation criteria for AFG. The Criteria Development Panel is composed of representatives from nine major fire service organizations that are charged with making recommendations to FEMA regarding the creation of new funding priorities, the modification of existing funding priorities, and the development of criteria for awarding grants. The nine major fire service organizations represented on the panel:

• Congressional Fire Services Institute (CFSI)

• International Association of Arson Investigators (IAAI)

• International Association of Fire Chiefs (IAFC)

• International Association of Fire Fighters (IAFF)

• International Society of Fire Service Instructors (ISFSI)

• National Association of State Fire Marshals (NASFM)

• National Fire Protection Association (NFPA)

• National Volunteer Fire Council (NVFC)

• North American Fire Training Directors (NAFTD)

The FY 2018 criteria development panel meeting occurred January 16-18, 2018. The content of the FY 2018 FP&S Notice of Funding Opportunity reflects the implementation of the Criteria Development Panel's recommendations with respect to the priorities, direction, and criteria for awards. All of the funding priorities for the FY 2018 FP&S Grant Program are designed to address the following:

• First responder safety

• Enhancing national capabilities

• Risk

• Interoperability

Changes for FY 2018

FY 2018 FP&S Notice of Funding Opportunity Announcement

(1) New performance metrics for each Activity within the FP&S Grant Program have been added to better measure the impact of grant funding on fire prevention and firefighter safety.

(2) Under the FP&S Activity, clarification has been provided that Risk Assessments can include Wildland and Wildland Urban Interface Risk Assessments.

Application Review Process and Considerations

The program's authorizing statute requires that each year DHS publish in the Federal Register a description of the grant application process and the criteria for grant awards. This information is provided below.

DHS will review and evaluate all FP&S applications submitted using the funding priorities and evaluation criteria described in this document, which are based on recommendations from the AFG Criteria Development Panel.

Peer Review Process

Peer Review Panel Process—Fire Prevention and Safety Activity

All FP&S activity applications will be evaluated by a peer review process. A panel of peer reviewers is composed of fire service representatives recommended by the Criteria Development Panel. These reviewers will assess each application's merits with respect to the detail provided in the Narrative Statement on the activity, including the evaluation elements listed in the Evaluation Criteria identified below. The panel will independently score each project within the application, discuss the merits and/or shortcomings of the application, and document the findings. A consensus is not required.

Peer Review Panel Process—Research and Development Activity

R&D applications will go through a two-phase review process. First, all applications will be reviewed by a panel of fire service experts to assess the need for the research results and the likelihood that the results would be implemented by the fire service in the United States. Applications that are deemed likely to be implemented to enable improvement in firefighter safety, health, or wellness will be deemed to be in the “competitive range” and will be forwarded to the second level of project review, which is the science review panel process. This panel will be composed of scientists and technology experts who have expertise pertaining to the subject matter of the proposal.

Scientific reviewers will independently score applications in the competitive range and, if necessary, discuss the merits or shortcomings of the project in order to reconcile any major discrepancies identified by the reviewers. A consensus is not required.

Technical Evaluation Process

The highest ranked projects from both Activities will be deemed in the fundable range. Applications that are in the fundable range will undergo a Technical Review by the FEMA Program Office prior to being recommended for award. The FEMA Program Office will assess the request with respect to costs, quantities, feasibility, eligibility, and recipient responsibility prior to recommending any application for award.

Once the review process is complete, each project's score will be determined and a final ranking of project applications will be created. FEMA will award grants based on this final ranking. Award announcements will be made on a rolling basis until all available grant funds have been committed. Awards will not be made in any specified order. DHS will notify unsuccessful applicants as soon as it is feasible.

Evaluation Criteria for Projects—Fire Prevention and Safety Activity

Funding decisions will be informed by an assessment of how well the application addressed the criteria and considerations listed below. Applications will be reviewed by the peer reviewers using weighted evaluation criteria to score the project. These scores will impact the ranking of a project for funding.

The relative weight of the evaluation criteria in the determination of the grant award is listed below.

• Financial Need (10%): Applicants should have provided details on the need for financial assistance to carry out the proposed project(s). Included in the description might be other unsuccessful attempts to acquire financial assistance or specific examples of the applicant's operational budget.

• Vulnerability Statement (25%): The assessment of fire risk is essential in the development of an effective project goal, as well as meeting FEMA's goal to reduce risk by conducting a risk assessment as a basis for action. Vulnerability is a “weak link” demonstrating high risk behavior, living conditions or any type of high risk situation or behavior. The Vulnerability Statement should have included a description of the steps taken to determine the vulnerability (weak link) and identify the target audience. The methodology for determination of vulnerability (i.e., how the weak link was found) should have been discussed in-depth in the application's Narrative Statement.

○ The specific vulnerability (weak link) that will be addressed with the proposed project can be established through a formal or informal risk assessment. FEMA encouraged the use of local statistics, rather than national statistics, when discussing the vulnerability.

○ The applicant should have summarized the vulnerability (weakness) the project will address in a clear, to-the-point statement that addresses who is at risk, what the risks are, where the risks are, and how the risks can be prevented, reduced, or mitigated.

○ For the purpose of the FY 2018 FP&S NOFO, formal risk assessments must have included either the use of software programs or recognized expert analysis that assess risk trends.

○ Informal risk assessments could have included an in-house review of available data (e.g., National Fire Incident Reporting System) to determine fire loss, burn injuries or loss of life over a period of time, and the factors that are the cause and origin for each occurrence.

• Implementation Plan (25%): Projects should have provided details on the implementation plan, discussing the proposed project's goals and objectives. The following information should have been included to support the implementation plan:

○ Goals and objectives.

○ Details regarding the methods and specific steps that will be used to achieve the goals and objectives.

○ Timelines outlining the chronological project steps.

○ Where applicable, examples of marketing efforts to promote the project, who will deliver the project (e.g., effective partnerships), and the manner in which materials or deliverables will be distributed.

○ Requests for props (i.e., tools used in educational or awareness demonstrations), including specific goals, measurable results, and details on the frequency for which the prop will be utilized as part of the implementation plan. Applicants should have included information describing the efforts that will be used to reach the high risk audience and/or the number of people reached through the proposed project.

• Evaluation Plan (25%): Projects should have included an evaluation of effectiveness and should have identified measurable goals. Applicants seeking to carry out awareness and educational projects, for example, should have identified how they intend to determine that there has been an increase in knowledge about fire hazards, or measure a change in the safety behaviors of the audience. Applicants should have demonstrated how they will measure risk at the outset of the project in comparison to how much the risk decreased after the project is finished. There are various ways to measure the knowledge gained including the use of surveys, pre- and post-tests, or documented observations.

• Cost-Benefit (10%): Projects will be evaluated based on how well the applicant addressed the fire prevention needs of the department or organization in an economical and efficient manner. The applicant should have shown how it will maximize the level of funding that goes directly into the delivery of the project. The costs associated with the project must also be reasonable for the target audience that will be reached, and a description of how the anticipated benefit(s) of their projects outweighs the cost(s) of the requested item(s) should have been included. The application should have provided justification for all costs included in the project in order to assist the FEMA Program Office with the Technical Evaluation Panel review.

• Funding Priorities (5%): Applicants will be evaluated on whether the proposed project meets the stated funding priority (listed below) for the applicable category.

○ Community Risk Reduction Priority: Comprehensive home fire safety campaign with door-to-door smoke alarm installations and/or sprinkler awareness and/or community risk assessments.

○ Fire/Arson Investigation Priority: Projects that aim to aggressively investigate every fire.

○ Code Enforcement/Awareness Priority: Projects that focus on first time or reinstatement of code adoption and code enforcement, including Wildland Urban Interface (WUI) codes for communities with a WUI-wildfire risk.

○ National/State/Regional Programs and Studies Priority: Projects that focus on residential fire issues, and/or firefighter safety and wellness projects or strategies that are designed to measurably change firefighter behavior and decision-making.

Meeting the needs of people with disabilities (additional consideration): Applicants in the Community Risk Reduction category will receive additional consideration if, as part of their comprehensive smoke alarm installation and education program, they address the needs of people with disabilities (e.g., deaf/hard-of-hearing) in their community.

Experience and Expertise (additional consideration): Applicants that demonstrated their experience and ability to conduct fire prevention and safety activities, and to execute the proposed or similar project(s), will receive additional consideration.

Evaluation Criteria—Firefighter Safety Research and Development Activity

Funding decisions will be informed by an assessment of how well the application addresses the criteria and considerations listed below. All applications will be reviewed by a fire service expert panel using weighted evaluation criteria, and those projects deemed to be in the “competitive range” will then be reviewed by a scientific peer review panel evaluation using weighted evaluation criteria to score the project. Scientific evaluations will impact the ranking of the project for funding.

Fire Service Evaluation Criteria

• Purpose (25%): Applicants should have clearly identified the benefits of the proposed research project to improve firefighter safety, health, or wellness, and identified specific gaps in knowledge that will be addressed.

• Implementation by Fire Service (25%): Applicants should have discussed how the outcomes/products of this research, if successful, are likely to be widely/nationally adopted and accepted by the fire service as changes that enhance firefighter safety, health, or wellness.

• Potential Impact (15%): Applicants should have discussed the potential impact of the research outcome/product on firefighter safety by quantifying the possible reduction in the number of fatal or non-fatal injuries, or on the projected wellness by significantly improving the overall health of firefighters.

• Barriers (15%): The applicant needed to identify and discuss potential fire service and other barriers to successfully complete the study on schedule, including contingencies and strategies to deal with barriers if they materialize. This may include barriers that could inhibit the proposed fire service participation in the study or the adoption of successful results by the fire service when the project is completed.

• Partners (20%): Applicants should have recognized that participation of the fire service as a partner in the research, from development to dissemination, is regarded as an essential part of all projects. Applicants should have described the fire service partners and contractors that will support the project to accomplish the objectives of the study. The specific roles and contributions of the partners should have been described. Partnerships may be formed with local and regional fire departments, and also with national fire-related organizations. Letters of support and letters of commitment to actively participate in the project should have been included in the appendix of the application. Generally, participants of a diverse population, including both career and volunteer firefighters, are expected to facilitate acceptance of results nationally. In cases where this is not practical, due to the nature of the study or other limitations, these circumstances should have been clearly explained.

Science Panel Evaluation Criteria

• Project goals, objectives, and specific aims (15%): Applicants should have addressed how the purpose, goals, objectives, and aims of the proposal will lead to results that will improve firefighter safety, health, or wellness. For multi-year projects, greater detail should have been given for the first year, however specific goals and objectives were required for the second and third years (if applicable).

• Literature Review (10%): Applicants should have provided a literature review that is relevant to the project's goals, objectives, and specific aims. The citations should have been placed in the text of the narrative statement, with references listed at the end of the Narrative Statement (and not in the Appendix) of the application. The review should have been in sufficient depth to make it clear that the proposed project is necessary, adds to an existing body of knowledge, is different from current and previous studies, and offers a unique contribution.

• Project Methods (20%): Applicants should have provided a description of how the project will be carried out, including demonstration of the overall scientific and technical rigor and merit of the project. This includes the operations to accomplish the purpose, goals and objectives, and the specific aims of the project. Plans to recruit and retain human participants for research, where applicable, should have been described. Where human participants are involved in the project, the applicant should have described plans for submission to the Institutional Review Board (for further guidance and requirements, see the FY 2018 FP&S NOFO).

• Project Measurements (20%): Applicants should have provided evidence of the technical rigor and merit of the project, such as data pertaining to validity, reliability, and sensitivity (where established) of the facilities, equipment, instruments, standards, and procedures that will be used to carry out the research. The applicant should have discussed the data to be collected to evaluate the performance methods, technologies, and products proposed to enhance firefighter safety, health, or wellness. The applicant should have demonstrated that the measurement methods and equipment selected for use are appropriate and sufficient to successfully deliver the proposed project objectives.

• Project Analysis (20%): The applicant should have indicated the planned approach for analysis of the data obtained from measurements, questionnaires, or computations. The applicant should have specified within the plan what will be analyzed, the statistical methods that will be used, the sequence of steps, and interactions as appropriate. It should be clear that the Principal Investigator and research team have the expertise to perform the planned analysis and defend the results in a peer review process.

• Dissemination and Implementation (15%): Applicants should have indicated dissemination plans for scientific audiences (such as plans for submissions to specific peer review publications) and for firefighter audiences (such as websites, magazines, and conferences). Also, assuming positive results, the applicant should have indicated future steps that would support dissemination and implementation throughout the fire service, where applicable. These steps are likely to be beyond the current study, so those features of the research activity that will facilitate future dissemination and implementation should have been discussed. All applicants should have specified how the results of the project, if successful, might be disseminated and implemented in the fire service to improve firefighter safety, health, or wellness. It is expected that successful R&D Activity Projects may give rise to future programs including FP&S Activity Projects.

• Cost vs. Benefit (additional consideration): Cost vs. benefit in this evaluation element refers to the costs of the grant for the research and development project as it relates to the benefits that are projected for firefighters who would have improved safety, health, or wellness. Applicants should have demonstrated a high benefit for the cost incurred, and effective utilization of Federal funds for research activities.

• Financial Need (additional consideration): In the Applicant Information section of the application, applicants should have provided details on the need for Federal financial assistance to carry out the proposed project(s). Applicants may have included a description of unsuccessful attempts to acquire financial assistance. Applicants should have provided detail about the organization's operating budget, including a high-level breakdown of the budget; described the department's inability to address financial needs without Federal assistance; and discussed other actions the department has taken to meet their staffing needs (e.g., State assistance programs, other grant programs, etc.).

• Mentoring (additional consideration for Early Career Investigator Projects only): An important part of Early Career Investigator projects is the integration of mentoring for the principal investigator by experienced researchers in areas appropriate to the research project, including exposure to the fire service community as well as support for ongoing development of knowledge and skills. Mentoring is regarded as critical to the research skills development of early career principal investigators. As part of the application Appendix, the applicant should have identified the mentor(s) who have agreed to support the applicant and the expected benefit of their interactions with the researcher. A biographical sketch and letter of support from the mentor(s) were encouraged and should have been included in the Appendix materials.

Other Selection Information

Awards will be made using the results of peer-reviewed applications as the primary basis for decisions, regardless of activity. However, there are some exceptions to strictly using the peer review results. The applicant's prior AFG, SAFER, and FP&S grant management performance will also be taken into consideration when making recommendations for award. All final funding determinations will be made by the FEMA Administrator, or the Administrator's designee.

Fire departments and other eligible applicants that have received funding under the FP&S Grant Program in previous years were eligible to apply for funding in the current year. However, DHS may take into account an applicant's performance on prior grants when making funding decisions on current applications.

Once every application in the competitive range has been through the technical evaluation phase, the applications will be ranked according to the average score awarded by the panel.

The ranking will be summarized in a Technical Report prepared by the AFG Program Office. A Grants Management Specialist will contact the applicant to discuss and/or negotiate the content of the application and SAM.gov registration before making final award decisions.

Authority: 15 U.S.C. 2229.

Pete Gaynor,
Acting Administrator, Federal Emergency Management Agency.

[FR Doc. 2019-14044 Filed 7-1-19; 8:45 am]

BILLING CODE 9111-64-P